DEPARTMENT OF ENERGY

Federal Energy Regulatory Commission

[Docket No. EL13-15-000]

Southwestern Public Service Company v. Southwest Power Pool, Inc.; Notice of Complaint

Take notice that on October 26, 2012, pursuant to sections 206 and 309 of the Federal Power Act, 16 U.S.C. 824(e) and 825(h) (2006); and Rule 206 of the Federal Energy Regulatory Commission's (Commission) Rules of Practice and Procedure, 18 CFR 206 (2012), Xcel Energy Services Inc. on behalf of Southwestern Public Service Company (Complainant) filed a formal complaint against Southwest Power Pool, Inc. (SPP or Respondent), alleging that (1) the transmission rates for SPP Zone 11 are unjust and unreasonable due to the inclusion of the costs of Tri-County Electric Cooperative, Inc.'s (Tri-County) facilities that are not transmission facilities under the SPP Open Access Transmission Tariff (OATT); and (2) SPP's filing of transmission rates that included the costs of the Tri-County facilities violated the express terms and conditions of Attachment AI of the SPP OATT and the SPP Member Agreement. The Complainant requests a refund effective date of April 1, 2012.

The Complainant certifies that copies of the complaint were served on the contacts for SPP as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 15, 2012.

Dated: October 31, 2012.
Kimberly D. Bose,
Secretary.

[FR Doc. 2012-27011 Filed 11-5-12; 8:45 am]

BILLING CODE 6717-01-P